DEPARTMENT OF JUSTICE

Notice of Lodging of Consent Decree Under the Clean Air Act

Notice is hereby given that on March 31, 2011, a proposed Consent Decree (the “Consent Decree”) in United States v. City of Vineland, New Jersey, Civil Action No. 1:11-cv-1826 was lodged with the United States District Court for the District of New Jersey.

In this action, the United States sought civil penalties and injunctive relief for Defendant City of Vineland, New Jersey's (“the City”) violations of the Clean Air Act, 42 U.S.C. 7401 et seq., at the Vineland Municipal Electric Utility's oil- and coal-fired electric generating station (“Facility”). The Consent Decree requires the City to pay a civil penalty of $850,000 to the United States, and to implement remedial measures at the Facility, including permanently retiring two of the Facility's electric generating units, installing pollution controls on or permanently retiring a third unit, and constructing and operating a new natural gas-fired turbine at an estimated cost of approximately $60 million.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, United States Department of Justice, Washington, DC 20044-7611, and should refer to United States v. City of Vineland, New Jersey, D.J. Ref. 90-5-2-1-09529.

During the public comment period, the Consent Decree may be examined on the following Department of Justice Web site, http://www.usdoj.gov/enrd/Consent_Decrees.html. A copy of the Consent Decree may also be obtained by mail from the Consent Decree Library, P.O. Box 7611, United States Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $8.50 (25 cents per page reproduction cost) payable to the U.S. Treasury or, if by e-mail or fax, forward a check in that amount to the Consent Decree Library at the stated address.

Ronald G. Gluck,
Assistant Chief, Environmental Enforcement Section, Environment and Natural Resources Division.

[FR Doc. 2011-8060 Filed 4-5-11; 8:45 am]

BILLING CODE 4410-15-P